DEPARTMENT OF AGRICULTURE

Forest Service

Northwest Sacramento Provincial Advisory Committee (PAC)

AGENCY: Forest Service, USDA.

ACTION: Notice of meeting.

SUMMARY: The Northwest Sacramento Provincial Advisory Committee (PAC) will meet on Thursday, May 18, 2000, at the Mt. Shasta Community Center, 629 Alder Street, Mt. Shasta, California. The meeting will start at 9 a.m. and adjourn at 3 p.m. Topics for the meeting are: (1) An update on the High Complex Fire; (2) update on the Clear Creek/Resource Conservation District proposal; (3) update on the Story Creek Coordinated Resource Management Plan; and (4) public comment periods. All PAC meetings are open to the public. Interested citizens are encouraged to attend.

FOR FURTHER INFORMATION CONTACT: Connie Hendryx, USDA, Klamath National Forest, 11263 N. Highway 3, Fort Jones, California 96032; telephone 530-468-1281; TDD (530) 468-2783; email: chendryx@fs.fed.us.

Dated: May 4, 2000.
Constance J. Hendryx,
PAC Support Staff.

[FR Doc. 00-11646 Filed 5-9-00; 8:45 am]

BILLING CODE 3410-11-M